DEPARTMENT OF COMMERCE

National Oceanic and Atmospheric Administration

50 CFR Part 648

[Docket No. 161017970-6999-02]

RIN 0648-XF937

Fisheries of the Northeastern United States; Summer Flounder Fishery; Quota Transfers

AGENCY: National Marine Fisheries Service (NMFS), National Oceanic and Atmospheric Administration (NOAA), Commerce.

ACTION: Temporary rule; quota transfers.

SUMMARY: NMFS announces two retroactive commercial summer flounder quota transfers for the 2017 fishing year. The State of New York is transferring a portion of its quota to the State of New Jersey, and the State of North Carolina is transferring quota to the Commonwealth of Virginia. These quota adjustments are necessary to comply with the Summer Flounder, Scup, and Black Sea Bass Fishery Management Plan quota transfer provisions. This announcement informs the public of the revised 2017 commercial quotas for New York, New Jersey, North Carolina, and Virginia.

DATES: Effective January 24, 2018, through December 31, 2018.

FOR FURTHER INFORMATION CONTACT: Cynthia Hanson, Fishery Management Specialist, (978) 281-9180.

SUPPLEMENTARY INFORMATION: Regulations governing the summer flounder fishery are found in 50 CFR 648.100 through 648.110. These regulations require annual specification of a commercial quota that is apportioned among the coastal states from Maine through North Carolina. The process to set the annual commercial quota and the percent allocated to each state is described in § 648.102, and the initial 2017 allocations were published on December 22, 2016 (81 FR 93842).

The final rule implementing Amendment 5 to the Summer Flounder Fishery Management Plan, as published in the Federal Register on December 17, 1993 (58 FR 65936), provided a mechanism for transferring summer flounder commercial quota from one state to another. Two or more states, under mutual agreement and with the concurrence of the NMFS Greater Atlantic Regional Administrator, can transfer or combine summer flounder commercial quota under § 648.102(c)(2). The Regional Administrator is required to consider the criteria in § 648.102(c)(2)(i)(A) through (C) in the evaluation of requests for quota transfers or combinations.

This action includes two transfers of fishing year 2017 summer flounder commercial quota: New York is transferring 384 lb (174 kg) of quota to New Jersey; North Carolina is transferring 11,902 lb (5,399 kg) of quota to Virginia. Both of these transfers were requested to repay landings made in the receiving states under a safe harbor agreement. The revised summer flounder quotas for calendar year 2017 are now: New York, 435,380 lb (197,485 kg); New Jersey, 946,516 lb (429,332 kg); North Carolina, 1,524,791 lb (691,634 kg); and Virginia, 1,228,191 lb (557,098 kg); based on the initial quotas published in the 2017 Summer Flounder, Scup, and Black Sea Bass Specifications and subsequent transfers.

The 2017 fishing year ended December 31, 2017. The revised 2017 quotas will be used by NMFS in the ongoing quota accounting that is finalized in late 2018. These transfers were requested as a result of unforeseeable late-season events. Specifically, two landing events where vessels were granted safe harbor too late in the year to publish notice in 2017.

Classification

This action is taken under 50 CFR part 648 and is exempt from review under Executive Order 12866.

Authority: 16 U.S.C. 1801 et seq.

Dated: January 19, 2018.
Emily H. Menashes,
Acting Director, Office of Sustainable Fisheries, National Marine Fisheries Service.

[FR Doc. 2018-01376 Filed 1-24-18; 8:45 am]

BILLING CODE 3510-22-P